DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 9, 2012 through January 13, 2012.

In order for an affirmative determination to be made for workers of a primary firm and a certification issued regarding eligibility to apply for worker adjustment assistance, each of the group eligibility requirements of Section 222(a) of the Act must be met.

I. Under Section 222(a)(2)(A), the Following Must Be Satisfied

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the Following Must Be Satisfied

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
80,488 | Plexus Services Corp., Plexus Corp., Adecco | Nampa, ID | July 24, 2011.
81,079 | Sierrapine | Rocklin, CA | February 13, 2010.

The following certifications have been issued. The requirements of Section 222(a)(2)(B) (shift in production or services) of the Trade Act have been met.

TA-W No. | Subject firm | Location | Impact date
80,467 | Covad Communications Company, d/b/a Megapath | Seattle, WA | September 23, 2010.
81,075 | Advanced Micro Devices, Inc. (AMD), Volt and HCL America, Inc. | Austin, TX | February 13, 2010.
81,075A | Advanced Micro Devices, Inc. (AMD), Volt and HCL America, Inc. | Sunnyvale, CA | February 13, 2010.
81,105 | WellPoint, Inc., Colorado/Nevada Utilization Management Intake Division | Denver, CO | February 13, 2010.
81,120 | Euclid Industries Inc,, A Subsidiary of M &amp; R Corporate Services, LLC | Bay City, MI | February 13, 2010.
81,126 | Argo Group International Holdings, Ltd (Portland Office), Argonaut Management Services Division, including home-based workers | Portland, OR | February 13, 2010.
81,126A | Argo Group International Holdings, Ltd, Argo Group International Division | Chicago, IL | February 13, 2010.
81,126B | Argo Group International Holdings, Ltd, Argo Group International Division | Geneva, IL | February 13, 2010.
81,126C | Argo Group International Holdings, Ltd, Argo Group International Division | Peoria, IL | February 13, 2010.
81,126D | Argo Group International Holdings, Ltd, Argo Group International Division | Denver, CO | February 13, 2010.
81,126E | Argo Group International Holdings, Ltd, Argo Group International Division | Fresno, CA | February 13, 2010.
81,126F | Argo Group International Holdings, Ltd, Argo Group International Division | Redwood City, CA | February 13, 2010.
81,126G | Argo Group International Holdings, Ltd, Argo Group International Division | Los Angeles, CA | February 13, 2010.
81,126H | Argo Group International Holdings, Ltd, Argo Group International Division | San Antonio, TX | February 13, 2010.
81,126I | Argo Group International Holdings, Ltd, Argo Group International Division | Dallas, TX | February 13, 2010.
81,126J | Argo Group International Holdings, Ltd, Argo Group International Division | Greenfield, MA | February 13, 2010.
81,126K | Argo Group International Holdings, Ltd, Argo Group International Division | Boston, MA | February 13, 2010.
81,126L | Argo Group International Holdings, Ltd, Argo Group International Division | Jersey City, NJ | February 13, 2010.
81,126M | Argo Group International Holdings, Ltd, Argo Group International Division | New York, NY | February 13, 2010.
81,126N | Argo Group International Holdings, Ltd, Argo Group International Division | Richmond, VA | February 13, 2010.
81,126O | Argo Group International Holdings, Ltd, Argo Group International Division | Scottsdale, AZ | February 13, 2010.
81,138 | Keystone Automotive Operations, Inc., Accounts Payable and Accounts Receivable, All Star Staffing Group | Exeter, PA | February 13, 2010.
81,151 | Ahlstrom Glass Nonwovens LLC | Bishopville, SC | February 13, 2010.
81,170 | Thomson Reuters Markets, LLC | Boston, MA | February 13, 2010.
81,175 | Albany International, PMC Division | Menasha, WI | February 13, 2010.
81,193 | Segue Manufacturing Services, LLC, On-Site Leased Workers From Additional Contract Services, Express, and Tech | Lowell, MA | February 13, 2010.

The following certifications have been issued. The requirements of Section 222(c) (supplier to a firm whose workers are certified eligible to apply for TAA) of the Trade Act have been met.

TA-W No. | Subject firm | Location | Impact date
81,146 | L.A. Darling Company, LLC, Wood Division, Staffmark | Piggott, AR | February 13, 2010.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
80,432 | Infuscience South Carolina, LLC | North Charleston, SC
81,047 | ERA Systems LLC (Formerly ERA Systems Corporation), a Subsidiary of SRA Corporation | Syracuse, NY
81,135 | Peninsula Daily News | Port Angeles, WA

Determinations Terminating Investigations of Petitions for Worker Adjustment Assistance

After notice of the petitions was published in the Federal Register and on the Department's Web site, as required by Section 221 of the Act (19 U.S.C. 2271), the Department initiated investigations of these petitions.

The following determination terminating an investigation was issued because the petitioner has requested that the petition be withdrawn.

TA-W No. | Subject firm | Location | Impact date
81,168 | Lightspeed Technologies | Tualatin, OR

I hereby certify that the aforementioned determinations were issued during the period of January 9, 2012 through January 13, 2012. These determinations are available on the Department's Web site at tradeact/taa/taa search form.cfm under the searchable listing of determinations or by calling the Office of Trade Adjustment Assistance toll-free at 888-365-6822.

Dated: January 23, 2012.
Elliott S. Kushner,
Certifying Officer, Office of Trade Adjustment Assistance.

[FR Doc. 2012-3323 Filed 2-13-12; 8:45 am]

BILLING CODE P